DEPARTMENT OF TRANSPORTATION

Federal Motor Carrier Safety Administration

[Docket No. FMCSA-2011-0379]

Qualification of Drivers; Exemption Applications; Vision

AGENCY: Federal Motor Carrier Safety Administration (FMCSA), DOT.

ACTION: Notice of applications for exemptions; request for comments.

SUMMARY: FMCSA announces receipt of applications from seventeen individuals for exemption from the vision requirement in the Federal Motor Carrier Safety Regulations. If granted, the exemptions would enable these individuals to qualify as drivers of commercial motor vehicles (CMVs) in interstate commerce without meeting the Federal vision requirement.

DATES: Comments must be received on or before April 13, 2012.

ADDRESSES: You may submit comments bearing the Federal Docket Management System (FDMS) Docket No. FMCSA-2011-0379 using any of the following methods:

• Federal eRulemaking Portal: Go to http://www.regulations.gov. Follow the non-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The seventeen individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

David A. Brannon

Mr. Brannon, age 51, has had a macular scar in his left eye since childhood. The best corrected visual acuity in his right eye is 20/15 and in his left eye, 20/60. Following an examination in 2011, his ophthalmologist noted, “I feel Mr. Brannon is qualified to operate a commercial motor vehicle, and he has sufficient vision to perform the task.” Mr. Brannon reported that he has driven tractor-trailer combinations for 32 years, accumulating 4.2 million miles. He holds a Class A Commercial Driver's License (CDL) from Florida. His driving record for the last 3 years shows no crashes and no convictions for moving violations in a Commercial Motor Vehicle (CMV).

Robert L. Brauns

Mr. Brauns, 50, has had complete loss of vision in his right eye due to a traumatic injury sustained in 1998. The best corrected visual acuity in his right eye is no light perception and in his left eye, 20/20. Following an examination in 2011, his optometrist noted, “I feel Robert L. Brauns has sufficient vision to perform the driving tasks required to operate a commercial vehicle.” Mr. Brauns reported that he has driven tractor-trailer combinations for 31 years, accumulating 2.5 million miles. He holds a Class A CDL from Iowa. His driving record for the last 3 years shows no crashes and no convictions for moving violations in a CMV.

Bobby R. Brooks

Mr. Brooks, 61, has had complete loss of vision in his right eye due to a traumatic injury sustained 5 years ago. The best corrected visual acuity in his right eye is no light perception and in his left eye, 20/20. Following an examination in 2011, his optometrist noted, “Yes, this person has sufficient vision to operate a commercial motor vehicle safely.” Mr. Brooks reported that he has driven tractor-trailer combinations for 39 years, accumulating 5.4 million miles. He holds a Class A CDL from Georgia. His driving record for the last 3 years shows no crashes and no convictions for moving violations in a CMV.

Melvin D. Clark

Mr. Clark, 54, has macular scaring in his right eye due to a traumatic injury sustained at age 10. The best corrected visual acuity in right eye is 20/150 and in his left eye, 20/20. Following an examination in 2011, his optometrist noted, “In my medical opinion, Mr. Clark demonstrates sufficient vision to perform the driving tasks required to safely operate a commercial vehicle.” Mr. Clark reported that he has driven straight trucks for 12 years, accumulating 120,000 miles and tractor-trailer combinations for 21 years, accumulating 700,000 miles. He holds a Class A CDL from Georgia. His driving record for the last 3 years shows no crashes and no convictions for moving violations in a CMV.

Jackie K. Cooper

Mr. Cooper, 50, has had amblyopia in his left eye since childhood. The best corrected visual acuity in right eye is 20/20 and in his left eye, 20/200. Following an examination in 2011, his ophthalmologist noted, “In my medical opinion this patient, who has been driving commercial vehicles within the state of Utah for an extended period of time and operating safely, has sufficient vision to perform these driving tasks outside the state of Utah as well.” Mr. Cooper reported that he has driven straight trucks for 10 years, accumulating 50,000 miles and tractor-trailer combinations for 10 years, accumulating 50,000 miles. He holds a Class A CDL from Utah. His driving record for the last 3 years shows no crashes and no convictions for moving violations in a CMV.

William C. Dempsey, Jr.

Mr. Dempsey, 53, has had amblyopia in his right eye since childhood. The best corrected visual acuity in his right eye is 20/200 and in his left eye, 20/15. Following an examination in 2011, his ophthalmologist noted, “Sufficient vision to operate a commercial vehicle.” Mr. Dempsey reported that he has driven straight trucks for 8 years, accumulating 160,000 miles and tractor-trailer combinations for 33 years, accumulating 1.2 million miles. He holds a Class A CDL from Massachusetts. His driving record for the last 3 years shows no crashes and no convictions for moving violations in a CMV.

Ryan C. Dugan

Mr. Dugan, 31, has a prosthetic right eye due to an injury sustained 10 years ago. The best corrected visual acuity in his left eye is 20/20. Following an examination in 2011, his optometrist noted, “Because his left eye is completely normal and meets the requirements of horizontal field necessary to operate a commercial vehicle, it is my medical opinion that he has sufficient vision required to operate a commercial vehicle safely.” Mr. Dugan reported that he has driven straight trucks for 11 years, accumulating 440,000 miles. He holds a Class D operator's license from New York. His driving record for the last 3 years shows no crashes and no convictions for moving violations in a CMV.

Donald J. Garrison

Mr. Garrison, 67, has a corneal scar in his right eye due to a traumatic injury sustained at age 3. The best corrected visual acuity in right eye is count-finger vision and in his left eye, 20/25. Following an examination in 2011, his ophthalmologist noted, “I feel that Mr. Garrison has adequate vision to operate a motor vehicle and/or a commercial vehicle safely as his vision has been stable most of his life.” Mr. Garrison reported that he has driven straight trucks for 4 years, accumulating 54,000 miles. He holds a Class D operator's license from Tennessee. His driving record for the last 3 years shows no crashes and no convictions for moving violations in a CMV.

Glenn C. Grimm

Mr. Grimm, 53, has complete loss of vision in his right eye due to a traumatic injury sustained 33 years ago. The best visual acuity in his left eye is 20/20. Following an examination in 2011, his ophthalmologist noted, “I see no medical ophthalmic contraindication to the patient continuing to perform as a commercial vehicle operator.” Mr. Grimm reported that he has driven straight trucks for 30 years, accumulating 156,000 miles. He holds a Class B CDL from New Jersey. His driving record for the last 3 years shows no crashes and one conviction for a moving violation in a CMV; failure to obey a traffic signal.

Lee P. Holt

Mr. Holt, 45, has had complete loss of vision in his right eye due to a traumatic injury sustained at age 15. The visual acuity in his right eye is light perception and in his left eye, 20/20. Following an examination in 2011, his optometrist noted, “Mr. Holt's vision condition has not changed and he has sufficient vision to perform at the same level as pervious in driving a commercial vehicle.” Mr. Holt reported that he has driven straight trucks for 1 year, accumulating 30,000 miles and tractor-trailer combinations for 6 years, accumulating 2.4 million miles. He holds a Class A CDL from Tennessee. His driving record for the last 3 years shows no crashes and no convictions for moving violations in a CMV.

Lance C. Phares

Mr. Phares, 49, has had complete loss in his left eye due to a traumatic injury sustained in 1982. The visual acuity in right eye is 20/20. Following an examination in 2011, his ophthalmologist noted, “In my medical opinion, I feel Lance has sufficient vision to perform the driving tasks required to operate a commercial vehicle.” Mr. Phares reported that he has driven straight trucks for 26 years, accumulating 780,000 miles. He holds a Class D operator's license from New York. His driving record for the last 3 years shows no crashes and no convictions for moving violations in a CMV.

Richard A. Pucker

Mr. Pucker, 56, has loss of vision in his left eye due to a traumatic injury sustained in 1974. The best corrected visual acuity in right eye is 20/15 and in his left eye, 20/300. Following an examination in 2011, his optometrist noted, “In my opinion, the patient has sufficient vision in his right eye and sufficient peripheral vision in his left eye to perform the driving tasks required to operate a commercial vehicle.” Mr. Pucker reported that he has driven straight trucks for 38 years, accumulating 1.9 million miles. He holds a Class A CDL from Wisconsin. His driving record for the last 3 years shows no crashes and no convictions for moving violations in a CMV.

Mark A. Smith

Mr. Smith, 47, has had anterior ischemic optic neuropathy in left right eye since 2002. The best corrected visual acuity in right eye is 20/16 and in his left eye, no light perception. Following an examination in 2011, his optometrist noted, “I feel that Mark A. Smith has sufficient vision to perform the driving tasks required to operate a commercial vehicle.” Mr. Smith reported that he has driven straight trucks for 9 years, accumulating 421,000 miles and tractor-trailer combinations for 6 years, accumulating 250,000 miles. He holds a Class A CDL from Iowa. His driving record for the last 3 years shows no crashes and no convictions for moving violations in a CMV.

Randy L. Stevens

Mr. Stevens, 28, has a prosthetic left eye due to an injury sustained when he was 4 years old. The best corrected visual acuity in his right eye is 20/20. Following an examination in 2011, his ophthalmologist noted, “I believe that Mr. Stevens is doing very well from an ophthalmologic standpoint and he should have no difficulty in regards to his driving tasks and operating a commercial vehicle.” Mr. Stevens reported that he has driven straight trucks for 24 years, accumulating 360,000 miles. He holds a Class A CDL from Georgia. His driving record for the last 3 years shows no crashes and no convictions for moving violations in a CMV.

Marion Tutt, Jr.

Mr. Tutt, 46, had amblyopia in his right eye since childhood. The best corrected visual acuity in right eye is 20/200 and in his left eye, 20/20. Following an examination in 2011, his optometrist noted, “In my opinion, this person has sufficient vision to operate a commercial vehicle safely.” Mr. Tutt reported that he has driven tractor-trailer combinations for 19 years, accumulating 2.8 million miles. He holds a Class A CDL from Georgia. His driving record for the last 3 years shows no crashes and no convictions for moving violations in a CMV.

Wade W. Ward

Mr. Ward, 51, has had an enucleated right eye since 1998. The best corrected visual acuity in his left eye is 20/15. Following an examination in 2011, his ophthalmologist noted, “I, Dr. Dirk Dijstal, have as a medical opinion that Mr. Wade Ward has sufficient vision to perform driving tasks such as driving a commercial vehicle.” Mr. Ward reported that he has driven straight trucks for 2 years, accumulating 22,000 miles and tractor-trailer combinations for 4 years, accumulating 380,000 miles. He holds a Class A CDL from Wyoming. His driving record for the last 3 years shows no crashes and one conviction for a moving violation in a CMV; failure to obey a traffic device.

Jimmy S. Zamora

Mr. Zamora, 54, has had retinal retinopathy in his right eye for the last four years. The best corrected visual acuity in right eye is 20/50 and in his left eye, 20/20. Following an examination in 2011, his optometrist noted, “In my medical opinion, Mr. Zamora has sufficient vision to perform the driving tasks required to operate a commercial vehicle.” Mr. Zamora reported that he has driven straight trucks for 30 years, accumulating 300,000 miles and tractor-trailer combinations for 30 years, accumulating 3 million miles. He holds a Class A CDL from Texas. His driving record for the last 3 years shows two crashes; he was cited for one of the crashes, and no convictions for moving violations in a CMV.

Request for Comments

In accordance with 49 U.S.C. 31136(e) and 31315, FMCSA requests public comment from all interested persons on the exemption petitions described in this notice. The Agency will consider all comments received before the close of business April 13, 2012. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: March 1, 2012.
Larry W. Minor,
Associate Administrator for Policy.

[FR Doc. 2012-6085 Filed 3-13-12; 8:45 am]

BILLING CODE 4910-EX-P